DEPARTMENT OF DEFENSE

Office of the Secretary

Defense Intelligence Agency National Intelligence University Board of Visitors Closed Meeting

AGENCY: Department of Defense, Defense Intelligence Agency, National Intelligence University.

ACTION: Notice of closed meeting.

SUMMARY: Pursuant to the provisions of Subsection (d) of Section 10 of Public Law 92-463, as amended by section 5 of Public Law 94-409, notice is hereby given that a closed meeting of the Defense Intelligence Agency National Intelligence University Board of Visitors has been scheduled as follows.

DATES: Tuesday, June 26, 2012 (8 a.m. to 5 p.m.) and Wednesday, June 27, 2012 (8 a.m. to 12 p.m.).

ADDRESSES: National Intelligence University, Washington, DC 20340-5100.

FOR FURTHER INFORMATION CONTACT: Dr. David R. Ellison, President, DIA National Intelligence University, Washington, DC 20340-5100 (202-231-3344).

SUPPLEMENTARY INFORMATION: The entire meeting is devoted to the discussion of classified information as defined in Section 552b(c)(1), Title 5 of the U.S. Code and therefore will be closed. The Board will discuss several current critical intelligence issues and advise the Director, DIA, as to the successful accomplishment of the mission assigned to the National Intelligence University.

Dated: May 29, 2012.
Aaron Siegel,
Alternate OSD Federal Register Liaison Officer, Department of Defense.

[FR Doc. 2012-13382 Filed 6-1-12; 8:45 am]

BILLING CODE 5001-06-P